ENVIRONMENTAL PROTECTION AGENCY

[FRL-6968-9]

Agency Information Collection Activities: Proposed Collection; Comment Request; Superfund Site Evaluation and Hazard Ranking System

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB):

• Superfund Site Evaluation and Hazard Ranking System; ICR #1488.05; OMB Control Number: 2050-0095; Expiration Date: September 30, 2001.

Before submitting the ICR to OMB for review and approval, EPA is soliciting comments on specific aspects of the proposed information collection as described below.

DATES: Comments must be submitted on or before June 25, 2001.

ADDRESSES: U.S. Environmental Protection Agency (M/S 5204-G), 1200 Pennsylvania Avenue, NW., Washington, DC 20460. Those interested in obtaining a copy of the ICR without charge, including electronic access, may contact: Randy Hippen, U.S. Environmental Protection Agency, 1200 Pennsylvania Avenue, NW., (M/S 5204-G), Washington, DC 20460, Tel: (703) 603-8829, or by E-mail Hippen.Randy@epa.gov.

FOR FURTHER INFORMATION CONTACT: Randy Hippen, Tel: (703) 603-8829; Fax: (703) 603-9104; E-mail: Hippen.Randy@epa.gov.

SUPPLEMENTARY INFORMATION: Affected entities: Entities potentially affected by this action are those state agencies, Indian Tribes, and U.S. Territories performing Superfund site evaluation activities.

Title: Superfund Site Evaluation and Hazard Ranking System; EPA ICR No. 1488.05; OMB Control No. 2050-0095; Expiring 9/30/01.

Abstract: Section 105 of the Comprehensive Environmental Response, Compensation, and Liability Act (CERCLA, 1980 and 1986) amends the National Oil and Hazardous Substances Contingency Plan (NCP) to include criteria prioritizing releases throughout the U.S. before undertaking remedial action at uncontrolled hazardous waste sites. The Hazard Ranking System (HRS) is a model that is used to evaluate the relative threats to human health and the environment posed by actual or potential releases of hazardous substances, pollutants, and contaminants. The HRS criteria take into account the population at risk, the hazard potential of the substances, as well as the potential for contamination of drinking water supplies, direct human contact, destruction of sensitive ecosystems, damage to natural resources affecting the human food chain, contamination of surface water used for recreation or potable water consumption, and contamination of ambient air.

Under this ICR, the States will apply the HRS by identifying and classifying those releases that warrant further investigation. The HRS score is crucial since it is the primary mechanism used to determine whether a site is eligible to be included on the National Priorities List (NPL). Only sites on the NPL are eligible for Superfund-financed remedial actions.

HRS scores are derived from the sources described in this information collection, including field reconnaissance, taking samples at the site, and reviewing available reports and documents. States record the collected information on HRS documentation worksheets and include this in the supporting reference package. States then send the package to the EPA region for a completeness and accuracy review, and the Region then sends it to EPA Headquarters for a final quality assurance review. If the site scores above the NPL designated cutoff value, and if it meets the other criteria for listing, it is then eligible to be proposed on the NPL.

Burden Statement: Depending on the number and type of activities performed, burden for the collection of site assessment information is estimated to range from 10 to 1,900 hours per site. The number of hours required to assess a particular site depends on how far a site progresses through the site assessment process. Sites where only a pre-CERCLIS screening action is performed will typically require approximately 10 hours, while sites that progress to NPL listing based on an integrated assessment approach may require up to 1,900 hours. The burden estimates include reporting activities and minimal record keeping activities. The States are reimbursed 100 percent of their costs, except for record maintenance. The ICR does not impose burden for HRS activities on local governments or private businesses.

Respondents: State agencies performing Superfund site evaluation activities.

Estimated Number of Respondents: 60 (States, U.S. Territories, and Indian Tribes).

Estimated Total Annual Burden on Respondents: 247,680.

Frequency of Collection: One time; section 116(b) requires an HRS evaluation within four years of the site's entry into the EPA CERCLIS database.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA estimates 60 States, Indian Tribes, and U.S. Territories will likely respond, each averaging 24 actions per year. EPA further estimates the average hours per action will require 172 hours (based on historic data for the type of site assessment activities to be conducted). Thus, the burden for all respondents is estimated at 247,680 hours and approximately $18,075,686 each year. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: April 12, 2001.
Larry G. Reed,
Acting Director, Office of Emergency and Remedial Response.

[FR Doc. 01-10433 Filed 4-25-01; 8:45 am]

BILLING CODE 6560-50-P